POSTAL SERVICE

International Product Change—Global Plus 2 Negotiated Service Agreements

AGENCY: Postal Service™.

ACTION: Notice.

SUMMARY: Postal Service notice of filing a request with the Postal Regulatory Commission to add Global Plus 2 Negotiated Service Agreements to the Competitive Products List pursuant to 39 U.S.C. 3642 and 3632(b)(3).

DATES: August 27, 2008.

FOR FURTHER INFORMATION CONTACT: Margaret M. Falwell, 703-292-3576

SUPPLEMENTARY INFORMATION: The United States Postal Service® hereby gives notice that it has filed with the Postal Regulatory Commission a Request of United States Postal Service to Add Global Plus 2 Negotiated Service Agreements to the Competitive Product List, and Notice of Filing (Under Seal) the Enabling Governor's Decision and Two Functionally Equivalent Agreements. Documents are available at http://www.prc.gov, Docket Nos. MC2008-7, CP2008-16, and CP2008-17.

Neva R. Watson,
Attorney, Legislative.

[FR Doc. E8-19802 Filed 8-26-08; 8:45 am]

BILLING CODE 7710-12-P